DEPARTMENT OF EDUCATION

[CFDA No. 84.229A]

Office of Postsecondary Education; Language Resource Centers Program; Notice Inviting Applications for New Awards for Fiscal Year (FY) 2002

Purpose of Program: The Language Resource Centers Program provides assistance to establish, strengthen and operate centers that serve as resources for improving the nation's capacity for teaching and learning foreign languages.

Eligible Applicants: Institutions of higher education and combinations of institutions of higher education.

Applications Available: September 10, 2001.

Deadline for Transmittal of Applications: November 5, 2001.

Estimated Available Funds: The Administration has requested $3,240,000 for this program for FY 2002. The actual level of funding, if any, depends on final congressional action. However, we are inviting applications at this time to allow enough time to complete the grant process before the end of the fiscal year, if Congress appropriates funds for this program.

Estimated Range of Awards: $200,000-$400,000.

Estimated Average Size of Awards: $360,000 per year.

Estimated Number of Awards: 9.

Note: The Department is not bound by any estimates in this notice.

Project Period: Up to 48 months.

Applicable Regulations: (a) The Education Department General Administrative Regulations (EDGAR) in 34 CFR parts 74, 75, 77, 80, 82, 85, 86, 97, 98 and 99. (b) The regulations for this program in 34 CFR parts 655 and 669.

For Applications and Further Information Contact: Jose L. Martinez or G. Edward McDermott, Language Resource Centers Program, U.S. Department of Education, International Education and Graduate Programs Service, 1990 K Street NW, Suite 600, Washington, DC 20006-8521. Mr. Martinez's telephone number is (202) 502-7635. Mr. McDermott's telephone number is (202) 502-7636. Mr. Martinez and Mr. McDermott may be reached by email at: jose.martinez@ed.gov; ed.mcdermott@ed.gov

If you use a telecommunications device for the deaf (TDD), you may call the Federal Information Relay Service (FIRS) at 1-800-877-8339.

Individuals with disabilities may obtain this document in an alternative format (e.g., Braille, large print, audiotape, or computer diskette) on request to the program contact persons listed under For Applications and Further Information Contact.

Individuals with disabilities may obtain a copy of the application package in an alternative format by contacting those persons. However, the Department is not able to reproduce in an alternative format the standard forms included in the application package.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1123.

Dated: August 28, 2001.
Maureen A. McLaughlin,
Deputy Assistant Secretary for Policy, Planning and Innovation, Office of Postsecondary Education.

[FR Doc. 01-22075 Filed 8-30-01; 8:45 am]

BILLING CODE 4000-01-M